ENVIRONMENTAL PROTECTION AGENCY

[ER-FRL-9012-4]

Environmental Impact Statements; Notice of Availability

RESPONSIBLE AGENCY: Office of Federal Activities, General Information (202) 564-7146 or http://www.epa.gov/compliance/nepa/

Weekly receipt of Environmental Impact Statements

Filed 11/25/2013 Through 11/29/2013

Pursuant to 40 CFR 1506.9.

Notice

Section 309(a) of the Clean Air Act requires that EPA make public its comments on EISs issued by other Federal agencies. EPA's comment letters on EISs are available at: http://www.epa.gov/compliance/nepa/eisdata.html

EIS No. 20130355, Draft EIS, USFS, UT, ADOPTION—TransWest Express Transmission Project, Comment Period Ends: 01/21/2014, Contact: Kenton Call 435-865-3730.

The U.S. Department of Agriculture's Forest Service has adopted the U.S. Department of the Interior's Bureau of Land Management and the U.S. Department of Energy's Western Area Power Administration's Draft EIS #20130180, filed 06/19/2013. The U.S. Forest Service was a cooperating agency for the project. Therefore, recirculation of the document is not necessary under Section 1506.3 of the CEQ Regulations.

Amended Notices

EIS No. 20130308, Draft EIS, USACE, NC, Morehead City Harbor Integrated Dredged Material Management Plan, Port of Morehead City, Comment Period Ends: 02/03/2014, Contact: Hugh Heine 910-251-4070.

Revision to the FR Notice Published 11/01/2013; Extending Comment Period from 12/16/2013 to 02/03/2014.

EIS No. 20130325, Draft EIS, NPS, MO, Ozark National Scenic Riverways Draft General Management Plan, Wilderness Study, Comment Period Ends: 01/08/2014, Contact: William Black 573-323-4236.

Revision to the FR Notice Published 11/08/2013; Extending Comment Period from 12/30/2013 to 01/08/2014.

Dated: December 3, 2013.
Cliff Rader,
Director, NEPA Compliance Division, Office of Federal Activities.

[FR Doc. 2013-29193 Filed 12-5-13; 8:45 am]

BILLING CODE 6560-50-P